DEPARTMENT OF TRANSPORTATION

Federal Aviation Administration

Proposed Advisory Circular 43-L39, L-39 Albatross Military Jet Recommended Inspection Program and Overhaul Times

AGENCY: Federal Aviation Administration, DOT.

ACTION: Notice of availability of proposed Advisory Circular and request for comments.

SUMMARY: This notice announces the availability of and requests comments on proposed Advisory Circular (AC) 43-L39, L-39 Albatross Military Jet Recommended Inspection Program and Overhaul Times. The proposed AC provides a recommended inspection program and overhaul times L-39 Albatross aircraft issued experimental airworthiness certificates for the purpose of exhibition. This AC provides a means, but not the only means, of addressing the inspections and overhaul times for the purpose of complying with continued airworthiness requirements specified in an aircraft's operating limitations. This notice is necessary to give all interested persons the opportunity to present their views on the proposed AC.

DATES: Comments must be received on or before August 23, 2002.

ADDRESSES: Send all comments on the proposed AC to: Federal Aviation Administration, Continuous Airworthiness Maintenance Division (Attention: AFS-305), 800 Independence Avenue, SW., Washington, DC 20591, or electronically to william.obrien@faa.gov.

FOR FURTHER INFORMATION CONTACT: Bill O'Brien, AFS-305, at the address above, by e-mail at william.obrien@faa.gov, or telephonically at (202) 267-3796.

SUPPLEMENTARY INFORMATION:

Comments Invited

The proposed AC is available on the FAA Web site at http://www.faa.gov/avr/afs/acs/ac-idx.htm, under AC No. 43-L39. Interested persons are invited to comment on the proposed AC by submitting such written data, views, or arguments as they may desire. Please identify AC 43-L39, L-39 Albatross Military Jet Recommended Inspection Program and Overhaul Times, and submit comments, either hard copy or electronic, to the appropriate address listed above. Comments may be inspected at the above address between 9 a.m. and 4 p.m. weekdays, except Federal holidays.

Background

The L-39 Albatross aircraft is an all metal, two place, tandem, military jet training aircraft. Almost 3000 L-39 aircraft have been manufactured in the Czech Republic by Aero Vodochody and the aircraft currently constitutes the most numerous former military jet trainer imported into the United States civilian aircraft market. There are currently over 110 registered L-39 aircraft operating in the United States. Additionally, almost 200 L-39 aircraft are undergoing repairs and alterations in the United States in preparation for the issuance of airworthiness certificates.

L-39 aircraft registered in the United States have been issued experimental certificates for the purpose of exhibition. In conjunction with the issuance of experimental certificates for the purpose of exhibition, the Administrator issues operating limitations under Title 14, Code of Federal Regulations (14 CFR) 91.319. These operating limitations have required the aircraft to be inspected in accordance with a specified program. Applicants for experimental exhibition airworthiness certificates, however, have experienced difficulty in developing or obtaining acceptable inspection programs for L-39 aircraft. This has resulted in a lack of standardization in the inspection programs used to support these aircraft and has significantly increased the time required for these aircraft to obtain airworthiness certification. The FAA therefore has developed the recommended aircraft inspection program specified in this proposed AC. Making this program available to applicants should encourage standardization in the scope and detail of inspection programs referenced in operating limitations and facilitate the issuance of airworthiness certificates to operate L-39 aircraft for the purpose of exhibition.

The FAA recognizes that the manufacturer's inspection program did not originally contemplate civilian operation of the aircraft for the purpose of exhibition and therefore is specifically requesting comments on the scope of the program for civilian application and that portion of the program pertaining to ejection seat inspection. The FAA is particularly interested in comments on how the manufacturer's engine overhaul times can be extended and comments that include more detailed procedures for performing L-39 ejection seat and canopy inspections.

Use of the recommended inspection program and compliance with recommended overhaul times should provide a uniform level of safety for operators of these aircraft while simultaneously streamlining the process for airworthiness certification.

Issued in Washington, DC, on June 13, 2002.
Louis C. Cusimano,
Deputy Director, Flight Standards Service, AFS-2.

[FR Doc. 02-15834 Filed 6-21-02; 8:45 am]

BILLING CODE 4910-13-M